DEPARTMENT OF THE INTERIOR

Bureau of Reclamation

[RR03042000, 22XR0680A1, RX.18786000.1501100; OMB Control Number 1006-0014]

Agency Information Collection Activities; Submission to the Office of Management and Budget for Review and Approval; Lower Colorado River Well Inventory

AGENCY: Bureau of Reclamation, Interior.

ACTION: Notice of information collection; request for comment.

SUMMARY: In accordance with the Paperwork Reduction Act of 1995, we, the Bureau of Reclamation, are proposing to renew an information collection.

DATES: Interested persons are invited to submit comments on or before December 13, 2021.

ADDRESSES: Written comments and recommendations for the proposed information collection should be sent within 30 days of publication of this notice to www.reginfo.gov/public/do/PRAMain. Find this particular information collection by selecting “Currently Under 30-day Review—Open for Public Comments” or by using the search function. Please provide a copy of your comments to Jeremy Dodds, Water Accounting and Verification Group Manager, LC-4200, Bureau of Reclamation, Lower Colorado Regional Office, P.O. Box 61470, Boulder City, NV 89006-1470 ; or by email to jdodds@usbr.gov. Please reference OMB Control Number 1006-0014 in the subject line of your comments.

FOR FURTHER INFORMATION CONTACT: To request additional information about this information collection request (ICR), contact Jeremy Dodds by email at jdodds@usbr.gov, or by telephone at (702) 293-8164. Individuals who are hearing or speech impaired may call the Federal Relay Service at (800) 877-8339 for TTY assistance. You may also view the ICR at http://www.reginfo.gov/public/do/PRAMain.

SUPPLEMENTARY INFORMATION: In accordance with the Paperwork Reduction Act of 1995 (PRA, 44 U.S.C. 3501 et seq.) and 5 CFR 1320.8(d)(1), we provide the general public and other Federal agencies with an opportunity to comment on new, proposed, revised, and continuing collections of information. This helps us assess the impact of our information collection requirements and minimize the public's reporting burden. It also helps the public understand our information collection requirements and provide the requested data in the desired format.

A Federal Register notice with a 60-day public comment period soliciting comments on this collection of information was published on April 28, 2021 (86 FR 22453). No comments were received.

As part of our continuing effort to reduce paperwork and respondent burdens, we are again soliciting comments from the public and other Federal agencies on the proposed ICR that is described below. We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

Abstract: Pursuant to the Boulder Canyon Project Act (43 U.S.C. 617; Pub. L. 70-642, 45 Stat. 1057), all diversion of mainstream Colorado River water must be in accordance with the Colorado River water entitlement. The Consolidated Decree of the United States Supreme Court in Arizona v. California, 547 U.S. 150 (2006) requires the Secretary of the Interior to account for all diversions of mainstream Colorado River water along the lower Colorado River, including water drawn from the mainstream by underground pumping. To meet the water entitlement and accounting obligations, an inventory of wells and river pumps is required along the lower Colorado River, and the gathering of specific information concerning these wells.

Title of Collection: Lower Colorado River Well Inventory.

OMB Control Number: 1006-0014.

Form Number: Form LC-25.

Type of Review: Extension of a currently approved collection.

Respondents/Affected Public: Well and river-pump owners and operators along the lower Colorado River in Arizona, California, and Nevada. Each diverter (including well pumpers) must be identified and their diversion locations and water use determined.

Total Estimated Number of Annual Respondents: 50.

Total Estimated Number of Annual Responses: 50.

Estimated Completion Time per Response: An average of 20 minutes is required to interview individual well and river-pump owners or operators.

Total Estimated Number of Annual Burden Hours: 17 hours.

Respondent's Obligation: Required to obtain or retain a benefit.

Frequency of Collection: These data are collected only once for each well or river-pump owner or operator as long as changes in water use, or other changes that would impact contractual or administrative requirements, are not made. A respondent may request that the data for its well or river pump be updated after the initial inventory.

Total Estimated Annual Nonhour Burden Cost: 0.

An agency may not conduct or sponsor and a person is not required to respond to a collection of information unless it displays a currently valid OMB control number.

The authority for this action is the Paperwork Reduction Act of 1995 (44 U.S.C. 3501 et seq.).

Jacklynn L. Gould,
Regional Director, Interior Region 8: Lower Colorado Basin.

[FR Doc. 2021-24663 Filed 11-10-21; 8:45 am]

BILLING CODE 4332-90-P